DEPARTMENT OF THE INTERIOR

Bureau of Reclamation

Nimbus Hatchery Fish Passage Project, Lower American River, California

AGENCY: Bureau of Reclamation, Interior.

ACTION: Notice of intent to prepare an Environmental Impact Statement/Environmental Impact Report (EIS/EIR) and notice of public scoping meetings.

SUMMARY: Pursuant to the National Environmental Policy Act (NEPA) and the California Environmental Quality Act (CEQA), the Bureau of Reclamation (Reclamation), the lead Federal agency, and the California Department of Fish and Game (CDFG), acting as the lead State agency, will prepare a joint EIS/EIR for the proposed Nimbus Fish Hatchery Weir Replacement Project (Project). The purpose of the Project is to create and maintain a reliable system of collecting adult fish for use in the Nimbus Fish Hatchery (Hatchery).

DATES: Two scoping meetings will be held to solicit public input on the scope of the environmental document, alternatives, concerns, and issues to be addressed in the EIS/EIR. The scoping meeting dates are:

• Thursday, April 30, 2009. 1 p.m. to 3 p.m., Gold River, CA.

• Thursday, April 30, 2009. 6:30 p.m. to 8:30 p.m., Gold River, CA.

Written comments on the scope of the EIS/EIR will be accepted until May 28, 2009.

ADDRESSES: The public scoping meetings will be held at the California State University Sacramento Aquatic Center, 1901 Hazel Avenue, Gold River, CA 95670.

Written comments on the scope of the EIS/EIR document should be sent to Mr. David Robinson, Central California Area Office, Bureau of Reclamation, 7794 Folsom Dam Road, Folsom, CA 95630-1799; or e-mailed to HatchPass@mp.usbr.gov.

FOR FURTHER INFORMATION CONTACT: Mr. David Robinson, Central California Area Office, Bureau of Reclamation, at the CCAO general telephone number 916-988-1707, e-mail: HatchPass@mp.usbr.gov.

SUPPLEMENTARY INFORMATION: The Nimbus Hatchery is located along the lower American River approximately ¼ mile downstream from Nimbus Dam in Rancho Cordova, CA. The Hatchery is a mitigation facility that was constructed by Reclamation in 1955 to compensate for the loss of spawning habitat for Chinook salmon and steelhead trout inundated by the construction of Nimbus Dam. The Hatchery annually produces 4 million fall-run Chinook salmon smolts and 430,000 winter-run American River steelhead yearlings. The fish weir is needed to prevent adult salmon from continuing upstream and allows them to locate and enter the fish ladder and hatchery.

CDFG has continuously operated and maintained the Hatchery under contract with Reclamation since it was originally constructed in 1955. CDFG operates and maintains all salmon and steelhead hatcheries within the State of California and is responsible for the management of statewide fisheries resources. As manager of the State fisheries resources, CDFG is also responsible for recommending and implementing fishing regulations. One alternative under consideration would result in changes to the fishing opportunities immediately downstream from Nimbus Dam pursuant to CDFG Regulation Section 2.35, “Taking Fish near Dams, Screens, and Egg-taking Stations.” CDFG will also consider the potential modification to the seasonal fishing regulations between the Hatchery and Nimbus Dam as part of the evaluation of this alternative.

Background: The Project is needed because the existing fish diversion structure is aging, susceptible to periodic significant damage from high flows, and its operation requires annual flow reductions for maintenance which effect protected steelhead populations in the river. Annual short-term flow reductions are required to install the weir at a time when steelhead are rearing in the lower American River. Flow reductions of longer duration are periodically required to repair significant flood damage to the existing structure and scouring around its foundation. This scouring destabilizes the weir and creates large holes that upstream migrant fish can pass through avoiding the entrance into the hatchery ladder.

Objectives: The primary objective of the Project is to maintain a fully functional system of collecting adult fish sufficient to meet mitigation goals. Secondary objectives are to minimize operations and maintenance costs, do away with the need to reduce river flows, and improve public and worker safety.

Alternatives: Reclamation has evaluated a broad set of potential solutions in a series of planning evaluations beginning in the mid-1990s. Two basic approaches to solving the problems that were advanced through the planning process include: (1) Constructing a new fish diversion weir with concrete foundation and air bladder control gates and pickets; and (2) the extension of the fish ladder upstream to Nimbus Dam and removal of the existing fish diversion weir. The EIS/EIR will evaluate each of these alternative approaches and a no action alternative.

Special Assistance for Public Scoping Meetings

If special assistance is required to participate in the public meetings, please contact Ms. Janet Sierzputowski at 916-978-5112, TDD 916-978-5608, or e-mail jsierzputowski@mp.usbr.gov. Please notify Ms. Sierzputowski as far in advance as possible to enable Reclamation to secure the needed services. If a request cannot be honored, the requestor will be notified.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: March 16, 2009.
Mike Chotkowski,
Acting Regional Environmental Officer, Mid-Pacific Region.

[FR Doc. E9-7785 Filed 4-6-09; 8:45 am]

BILLING CODE 4310-MN-P